DEPARTMENT OF AGRICULTURE

Forest Service

Information Collection: Interagency Generic Clearance for Federal Land Management Agencies Collaborative Visitor Feedback Surveys on Recreation and Transportation Related Programs and Systems

AGENCY: Forest Service, USDA.

ACTION: Notice; request for comment.

SUMMARY: In accordance with the Paperwork Reduction Act of 1995, the Forest Service is seeking comments from all interested individuals and entities on the renewal of a currently approved information collection, Generic Clearance for Recreation and Transportation.

DATES: Comments must be received in writing by December 28, 2020.

ADDRESSES: Send comments to USDA Forest Service, National Forest System, Pacific-Northwest Office, Attention: Eric M. White, Social Science and Economics Lead (Acting), Ecosystem Management System, 1220 SW 3rd Avenue, Suite 310, Portland, OR 97204. Comments also may be submitted via email to eric.m.white@usda.gov. All comments, including names and addresses when provided, will be placed in the record and will be available for public inspection and copying. The public may review comments at: http://www.regulations.gov.

The public may inspect comments received at USDA Forest Service, Pacific North West-Portland Office during normal business hours. Visitors are encouraged to call ahead to facilitate entry to the building at (503) 808-2468.

FOR FURTHER INFORMATION CONTACT: Eric M. White, Social Science and Economics Lead (Acting), Ecosystem Management System, National Forest Systems by telephone at (360) 999-0580 or by email at eric.m.white@usda.gov.

Individuals who use telecommunication devices for the deaf may call the Federal Relay Service at 800-877-8339 between 8 a.m. and 8 p.m. eastern time, Monday through Friday.

SUPPLEMENTARY INFORMATION:

Title: Interagency Generic Clearance for Federal Land Management Agencies Collaborative Visitor Feedback Surveys on Recreation and Transportation Related Programs and Systems.

OMB Number: 0596-0236.

Expiration Date of Approval: November 30, 2020.

Type of Request: Renewal with Revisions.

Type of Respondents: Individuals, businesses, and non-federal governmental entities.

Abstract: Federal Land Management Agencies (FLMAs) need to acquire visitor and user feedback about site- or area-specific services, facilities, road and/or travel systems, needs, programs, demographics, management of FLMA lands, and/or other quantitative information on FLMA lands in cross-jurisdictional landscapes. FLMAs include, but are not limited, to: USDA Forest Service; National Park Service; Bureau of Land Management; U.S. Fish & Wildlife Service; U.S. Geological Survey; U.S. Army Corps of Engineers; Presidio Trust; and Bureau of Reclamation.

This direct feedback is vital to establish or revise goals and objectives for FLMA recreation-related transportation system programs, inform land management plans, and facilitate interagency coordination across multijurisdictional landscapes. As a result of using this feedback, FLMAs are better able to meet the needs of the public and more effectively utilize the resources under FLMA management.

The benefits of an FLMA interagency generic information collection (IC) include significant public and agency time and cost savings. If multiple FLMAs in an area work jointly on one visitor feedback information collection under a generic clearance from OMB, there would be significant savings in government time and costs related to survey development, administration, and data processing. The public burden would be diminished as the public would only need to respond to one, jointly-sponsored, survey.

There are several authorities that obligate participating FLMAs to solicit public input to improve public lands management to better serve the public, including:

1. Forest Service Administration Organic Act of 1897 (16 U.S.C. 473-478, 479-482, and 551) as amended by the Transfer Act of 1905 (16 U.S.C. 472, 524, 554);

2. National Forest Management Act of 1976 (Pub. L. 94-588, 2(3), 6(d)), as amended;

3. Government Performance and Results Act of 1993 (Pub. L. 103-62) as amended;

4. National Park Services Act of 1916;

5. National Wildlife Refuge System Administration Act of 1966;

6. National Wildlife Refuge System Centennial Act (Pub. L. 106-408);

7. The Federal Land Policy and Management Act (FLPMA) of 1976; and

8. National Environmental Policy Act of 1969.

Respondents include visitors and potential visitors to FLMA units and residents of communities in or near FLMA units. Additionally, respondents may include state or local agency/organization staff who are involved with public lands management, as well as businesses near FLMA lands. Because many of the FLMA information collections may be similar in terms of the populations being surveyed, types of questions addressed, research methodologies, and data applications, the Forest Service is requesting renewal of this generic Interagency IC clearance from OMB to obtain quantitative and qualitative visitor and user feedback through surveys, focus groups, and/or interviews.

Information collection could occur at one location, several locations, across FLMA units, across regions, across the nation, and could be multi-jurisdictional at any of these levels. Information collection activities could occur once, could occur as iterative collections over a short time period, or could occur over long periods of time at some periodic, planned time interval. Individual, agency/organization, or business feedback could be collected through facilitated focus groups, surveys, individual interviews (qualitative or quantitative), and comment cards with information electronically-recorded or hand-written, via telephone, via mail-back survey, or via electronic means (e.g., QR codes on Smartphones or via social media engagement). Potential participants would be contacted at pertinent sites, including FLMA access points. Information could be gathered pre- or post-visit.

In general, questions will relate to the recreation experience at one or more specific locations (e.g., one or more FLMA's lands) and could address one or more of the following key categories:

1. Mobility and access (for example, different transportation modes used to access sites;

2. Satisfaction with transportation related services and facilities; use and satisfaction with traveler information; reasons for non-visitation);

3. Resource management (for example, support for different management approaches);

4. Safety (for example, safety-related incidents that occurred);

5. Environment (for example, visitor priorities with respect to natural and cultural resources; perceptions related to sound);

6. Economic development (for example, amount of money visitors spend within the area);

7. Trip characteristics (for example, length of trip, trip purpose, activities, and destinations); and

8. Visitor/user demographics (for example, home city and state, age group, gender, race, and number of people/vehicles in party).

Should any personally identifiable information (PII) be collected, to ensure anonymity, PII will not be stored with contact information at any time, and contact information will be redacted from researcher's files once data collections are completed.

Participation will be strictly voluntary. The information could be collected and analyzed by FLMA personnel, private contractors, other government agency partners, or universities or other educational institutions conducting the information collection on behalf of the FLMAs. All results will be aggregated so specific responses cannot be connected to specific respondents. The data collected would provide managers with statistically reliable visitor data necessary to help FLMA units provide their customers with better service and coordinate more effectively across jurisdictions. More specifically, the collected information can better inform strategic planning; allocations of physical, fiscal, or human resources; modification or refinement of various program management goals and objectives or management plan revisions; and future planning efforts focused on developing more effective and efficient delivery of program services, whether on one or several unit(s) or at an interagency, cross-jurisdictional scope. This information may also help FLMAs respond to queries from the general public and organizations including Congressional staffs, newspapers, magazines, and transportation or recreational trade organizations.

Without these joint, coordinated information collections, the FLMAs will lack the information necessary to identify and implement feasible and publicly accepted transportation, facility, and service improvements that protect public land resources and enhance visitor experience. These joint information collections will become more important as demand for access to FLMA recreation sites and opportunities continues to grow. Information from these collections will improve management of FLMA resources and visitor experiences while helping the FLMAs meet their various resource, recreation, and transportation management mandates.

Estimate of Burden: Public reporting burden for this collection of information is estimated to average 0.25 hours for surveys, 1.5 hours for focus groups, 1 hour for interviews, and 0.05 hours for comment cards.

Respondents: Respondents would include visitors and potential visitors to FLMA units or subunits, and residents of communities in or near FLMA units. Additionally, respondents may include state or local agency/organization staff who are involved with public lands, as well as, businesses near FLMA lands.

Affected Public: Individuals and Households, Businesses and Non-Profit Organizations, and/or State, Local or Tribal Government.

Estimated Number of Respondents: The estimated total number of respondents and non-respondent contacts over three years is 139,875.

Estimated Number of Responses per Respondent and non-respondent contact: 1.

Estimated Total Annual Burden over three years on Respondents and non-respondent contacts: 16,830 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Christopher B. French,
Deputy Chief, National Forest System.

[FR Doc. 2020-23758 Filed 10-26-20; 8:45 am]

BILLING CODE 3411-15-P